DEPARTMENT OF LABOR

Employment and Training Administration

[TA-W-59,880]

Meredith's Home Fashions; Fall River, MA; Certification Regarding Eligibility To Apply for Worker Adjustment Assistance and Alternative Trade Adjustment Assistance

In accordance with Section 223 of the Trade Act of 1974 (19 U.S.C. 2273), as amended, the Department of Labor herein presents the results of its investigation regarding certification of eligibility to apply for worker adjustment assistance.

In order to make an affirmative determination and issue a certification of eligibility to apply for Trade Adjustment Assistance, the group eligibility requirements in either paragraph (a)(2)(A) or (a)(2)(B) of Section 222 of the Trade Act must be met. It is determined in this case that the requirements of (a)(2)(A) of Section 222 have been met.

The investigation was initiated on August 10, 2006, in response to a petition filed by a company official on behalf of workers of Meredith's Home Fashions, Fall River, Massachusetts. The workers produce window curtains.

The investigation revealed that sales and employment at the subject firm decreased during the period under investigation.

The Department of Labor surveyed the subject firms' major declining customers regarding their purchases of window curtains in 2004, 2005 and January through July 2006 over the corresponding 2005 period. The survey revealed a major customer increased their reliance on imported window curtains during the period under investigation.

In accordance with Section 246 the Trade Act of 1974 (26 U.S.C. 2813), as amended, the Department of Labor herein presents the results of its investigation regarding certification of eligibility to apply for alternative trade adjustment assistance (ATAA) for older workers.

In addition, in order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I conclude that increased imports of window curtains produced by Meredith's Home Fashions, Fall River, Massachusetts contributed importantly to the total or partial separation of workers and to the decline in sales or production at that firm or subdivision. In accordance with the provisions of the Act, I make the following certification:

“All workers of Meredith's Home Fashions, Fall River, Massachusetts, who became totally or partially separated from employment on or after August 2, 2005 through two years from the date of certification are eligible to apply for adjustment assistance under Section 223 of the Trade Act of 1974, and are also eligible to apply for alternative trade adjustment assistance under Section 246 of the Trade Act of 1974.”

Signed in Washington, DC, this 7th day of September, 2006.
Elliott S. Kushner,
Certifying Officer, Division of Trade Adjustment Assistance.

[FR Doc. E6-16102 Filed 9-29-06; 8:45 am]

BILLING CODE 4510-30-P